DEPARTMENT OF HEALTH AND HUMAN SERVICES

National Institutes of Health

National Institute of Environmental Health Sciences; Amended Notice of Meeting

Notice is hereby given of a change in the meeting of the National Institute of Environmental Health Sciences Special Emphasis Panel, July 30, 2009, 2 p.m. to July 30, 2009, 4:30 p.m., NIEHS/National Institutes of Health, Keystone Building, 530 Davis Drive, Research Triangle Park, NC 27709 which was published in the Federal Register on July 2, 2009, FR E9-15689.

The meeting date was changed from July 30, 2009 to August 12, 2009 and the meeting time was changed from 2 p.m. to 2:30 p.m. The meeting is closed to the public.

Dated: July 9, 2009.
Jennifer Spaeth,
Director, Office of Federal Advisory Committee Policy.

[FR Doc. E9-17039 Filed 7-16-09; 8:45 am]

BILLING CODE 4140-01-P